SECURITIES AND EXCHANGE COMMISSION

Sunshine Act Meeting; Additional Item

Federal Register CITATION OF PREVIOUS ANNOUNCEMENT: To Be Published.

PREVIOUSLY ANNOUNCED TIME AND DATE OF THE MEETING: Thursday, October 13, 2016.

CHANGES IN THE MEETING: The following matter will also be considered during the 10:00 a.m. Open Meeting scheduled for Thursday, October 13, 2016, in the Auditorium, Room L-002:

• The Commission will consider whether to adopt rule and form amendments that would permit open-end management investment companies to use “swing pricing” under certain circumstances.

This item is now being separately listed for the Open Meeting in open session as a procedural matter, and the duty officer determined that Commission business required such earlier than one week from today. No earlier notice of this action was practicable.

CONTACT PERSON FOR MORE INFORMATION: For further information and to ascertain what, if any, matters have been added, deleted, or postponed, please contact Brent J. Fields in the Office of the Secretary at (202) 551-5400.

Dated: October 11, 2016.
Brent J. Fields,
Secretary.

[FR Doc. 2016-24988 Filed 10-12-16; 11:15 am]

BILLING CODE 8011-01-P